DEPARTMENT OF ENERGY

Federal Energy Regulatory Commission

Combined Notice of Filings #1

Take notice that the Commission received the following electric rate filings:

Docket Numbers: ER10-2137-019; ER14-2798-011; ER14-2799-011; ER10-2131-019; ER10-2138-019; ER10-2139-019; ER10-2140-019; ER10-2141-019; ER14-2187-013; ER16-1720-004; ER15-103-007; ER18-140-002.

Applicants: Beech Ridge Energy LLC, Beech Ridge Energy II LLC, Beech Ridge Energy Storage LLC, Grand Ridge Energy LLC, Grand Ridge Energy II LLC, Grand Ridge Energy III LLC, Grand Ridge Energy IV LLC, Grand Ridge Energy V LLC, Grand Ridge Energy Storage LLC, Invenergy Energy Management LLC, Invenergy Nelson LLC, Lackawanna Energy Center LLC.

Description: Notice of Change in Facts under Market-Based Rate Authority of Beech Ridge Energy LLC, et. al.

Filed Date: 1/16/18.

Accession Number: 20180116-5286.

Comments Due: 5 p.m. ET 2/6/18.

Docket Numbers: ER11-3401-014; ER11-3576-015.

Applicants: Golden Spread Electric Cooperative, Inc., Golden Spread Panhandle Wind Ranch, LLC.

Description: Notice of Non-material Change in Status of Golden Spread Electric Cooperative, Inc., et. al.

Filed Date: 1/16/18.

Accession Number: 20180116-5284.

Comments Due: 5 p.m. ET 2/6/18.

Docket Numbers: ER18-654-000.

Applicants: PacifiCorp.

Description: Tariff Cancellation: Termination of Georgia-Pacific Construct Agmt—Camas to be effective 3/31/2018.

Filed Date: 1/16/18.

Accession Number: 20180116-5194.

Comments Due: 5 p.m. ET 2/6/18.

Docket Numbers: ER18-655-000.

Applicants: ITC Midwest LLC.

Description: § 205(d) Rate Filing: Filing of a Master JUA for Distribution Underbuild with Butler County REC to be effective 3/19/2018.

Filed Date: 1/16/18.

Accession Number: 20180116-5215.

Comments Due: 5 p.m. ET 2/6/18.

Docket Numbers: ER18-656-000.

Applicants: Pacific Gas and Electric Company.

Description: § 205(d) Rate Filing: 1st Amendment to CDWR WPA for the Thermalito Restoration Project (SA 275) to be effective 1/18/2018.

Filed Date: 1/17/18.

Accession Number: 20180117-5000.

Comments Due: 5 p.m. ET 2/7/18.

Docket Numbers: ER18-658-000.

Applicants: PacifiCorp.

Description: § 205(d) Rate Filing: Calpine NITSA Rev 11 to be effective1/1/2018.

Filed Date: 1/17/18.

Accession Number: 20180117-5032.

Comments Due: 5 p.m. ET 2/7/18.

Docket Numbers: ER18-659-000.

Applicants: ITC Midwest LLC.

Description: § 205(d) Rate Filing: Filing of a Master JUA for Distribution Underbuild with Iowa Lakes Elec Coop to be effective 3/19/2018.

Filed Date: 1/17/18.

Accession Number: 20180117-5033.

Comments Due: 5 p.m. ET 2/7/18.

Docket Numbers: ER18-660-000.

Applicants: Southwest Power Pool, Inc.

Description: § 205(d) Rate Filing: 3390 SWPA & South Central MCN Interconnection Agreement to be effective 12/31/9998.

Filed Date: 1/17/18.

Accession Number: 20180117-5049.

Comments Due: 5 p.m. ET 2/7/18.

Docket Numbers: ER18-661-000.

Applicants: Midcontinent Independent System Operator, Inc., Ameren Illinois Company.

Description: § 205(d) Rate Filing: 2018-01-17_Ameren-Farmington 1st Rev WDS to be effective 1/1/2018.

Filed Date: 1/17/18.

Accession Number: 20180117-5059.

Comments Due: 5 p.m. ET 2/7/18.

Docket Numbers: ER18-663-000.

Applicants: PJM Interconnection, L.L.C.

Description: Tariff Cancellation: Notice of Cancellation of SA No. 3284; Queue No. W3-139 to be effective4/3/2017.

Filed Date: 1/17/18.

Accession Number: 20180117-5078.

Comments Due: 5 p.m. ET 2/7/18.

Docket Numbers: ER18-664-000.

Applicants: Steamboat Hills LLC.

Description: Baseline eTariff Filing: Petition for Approval of Initial Market-Based Rate Tariff to be effective2/23/2018.

Filed Date: 1/17/18.

Accession Number: 20180117-5083.

Comments Due: 5 p.m. ET 2/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2018.
Nathaniel J. Davis, Sr.,
Deputy Secretary.

[FR Doc. 2018-01103 Filed 1-22-18; 8:45 am]

BILLING CODE 6717-01-P